SECURITIES AND EXCHANGE COMMISSION

Sunshine Act Meetings

TIME AND DATE OF PREVIOUSLY ANNOUNCED MEETING: Wednesday, February 21, 2018 at 10:00 a.m.

PLACE: 100 F Street NE, Washington, DC 20549.

STATUS: Open meeting.

CHANGE IN MEETING: Cancellation of meeting.

The Open Meeting scheduled for Wednesday, February 21, 2018 at 10:00 a.m. was cancelled.

The Office of the Secretary at (202) 551-5400.

Dated: February 20, 2018.
Brent J. Fields,
Secretary.

[FR Doc. 2018-03799 Filed 2-21-18; 11:15 am]

BILLING CODE 8011-01-P